DEPARTMENT OF TRANSPORTATION

Federal Aviation Administration

Notice of Intent To Rule on Request To Release Airport Property at the Paris Cox Field Airport at Paris, Texas

AGENCY: Federal Aviation Administration (FAA), DOT.

ACTION: Notice of Request to Release Airport Property

SUMMARY: The FAA proposes to rule and invite public comment on the release of land at the Paris Cox Field Airport under the provisions of Section 125 of the Wendell H. Ford Aviation Investment Reform Act for the 21st Century (AIR 21).

DATES: Comments must be received on or before November 26, 2014.

ADDRESSES: Comments on this application may be mailed or delivered to the FAA at the following address:

Mr. Ed Agnew, Manager Federal Aviation Administration Southwest Region, Airports Division, Texas Airports Development Office, ASW-650 Fort Worth, Texas 76137

In addition, one copy of any comments submitted to the FAA must be mailed or delivered to the Mr. Shawn Napier, Director of Engineering, Planning, and Development, at the following address:

P.O. Box 9037

Paris, TX 75461

FOR FURTHER INFORMATION CONTACT: Mr. Anthony Mekhail, Program Manager, Federal Aviation Administration, Texas Airports Development Office, ASW-650, 2601 Meacham Boulevard, Fort Worth, Texas 76137, Telephone: (817) 222-5663, email: Anthony.Mekhail@faa.gov, fax: (817) 222-5989. The request to release property may be reviewed in person at this same location.

SUPPLEMENTARY INFORMATION: The FAA invites public comment on the request to release property at the Paris Cox Field Airport under the provisions of the AIR 21.

The following is a brief overview of the request:

The City of Paris requests the release of 12.662 acres of property within the Paris Cox Field Airport. The land was acquired by a Deed of Release from the United States of America . The property to be released will be sold to the AgPro Inc. and revenues shall be used for the operation and maintenance at the airport.

Any person may inspect the request in person at the FAA office listed above under FOR FURTHER INFORMATION CONTACT.

In addition, any person may, upon request, inspect the application, notice and other documents relevant to the application in person at the Paris Cox Field Airport, telephone number (903) 784-9292.

Issued in Fort Worth, Texas, on October 15, 2014.
Byron K. Huffman,
Acting Manager, Airports Division.

[FR Doc. 2014-25517 Filed 10-24-14; 8:45 am]

BILLING CODE 4910-13-P